DEPARTMENT OF ENERGY

Federal Energy Regulatory Commission

Combined Notice of Filings #1

Take notice that the Commission received the following electric corporate filings:

Docket Numbers: EC14-103-000.

Applicants: Duke Energy Kentucky, Inc.

Description: Application for Authorization to Transfer Jurisdictional Assets under Section 203 of the Federal Power Act of Duke Energy Kentucky, Inc.

Filed Date: 6/16/14.

Accession Number: 20140616-5279.

Comments Due: 5 p.m. ET 7/7/14.

Docket Numbers: EC14-104-000.

Applicants: KEF Equity Investment Corp.

Description: Application for Authorization for Disposition of Jurisdictional Facilities, Request for Expedited Consideration, Waivers and Confidential Treatment of KEP Equity Investment Corp.

Filed Date: 6/16/14.

Accession Number: 20140616-5281.

Comments Due: 5 p.m. ET 7/7/14.

Take notice that the Commission received the following electric rate filings:

Docket Numbers: ER10-2179-022; ER10-2181-022; ER10-2182-022.

Applicants: R.E. Ginna Nuclear Power Plant, LLC, Calvert Cliffs Nuclear Power Plant, LLC, Nine Mile Point Nuclear Station, LLC.

Description: Amendment to December 30, 2013 Updated Market Power Analysis for the Northeast Region of the Constellation Energy Nuclear Group entities.

Filed Date: 5/16/14.

Accession Number: 20140516-5230.

Comments Due: 5 p.m. ET 7/8/14.

Docket Numbers: ER11-2790-006.

Applicants: Midcontinent Independent System Operator, Ameren Illinois Company.

Description: 2014-06-17_SA 2005 Ameren-Hoosier WDS Agreement Amended Compliance to be effective 3/30/2011.

Filed Date: 6/17/14.

Accession Number: 20140617-5083.

Comments Due: 5 p.m. ET 7/8/14.

Docket Numbers: ER12-21-008; ER13-520-001; ER13-521-001; ER13-1441-001; ER13-1442-001; ER12-1626-002; ER13-1266-001; ER13-1267-001; ER13-1268-001; ER13-1269-001; ER13-1270-001; ER13-1271-001; ER13-1272-001; ER13-1273-001; ER10-2605-005.

Applicants: Agua Caliente Solar, LLC, Pinyon Pines Wind I, LLC, Pinyon Pines Wind II, LLC, Solar Star California XIX, LLC, Solar Star California XX, LLC, Topaz Solar Farms LLC, CalEnergy, LLC,CE Leathers Company, Del Ranch Company, Elmore Company, Fish Lake Power LLC, Salton Sea Power Generation Company, Salton Sea Power L.L.C., Vulcan/BN Geothermal Power Company, Yuma Cogeneration Associates.

Description: Second Supplement to June 26, 2013 Updated Market Power Analysis of the Berkshire Hathaway Energy Company MBR Sellers.

Filed Date: 6/12/14.

Accession Number: 20140612-5203.

Comments Due: 5 p.m. ET 7/3/14.

Docket Numbers: ER13-64-002.

Applicants: PacifiCorp.

Description: OATT Order 1000 Third Regional Compliance Filing to be effective 6/13/2014.

Filed Date: 6/17/14.

Accession Number: 20140617-5084.

Comments Due: 5 p.m. ET 7/7/14.

Docket Numbers: ER14-1775-001.

Applicants: SEP II, LLC.

Description: SEP II, LLC Market Based Rate Tariff Supplement to be effective 5/15/2014.

Filed Date: 6/17/14.

Accession Number: 20140617-5069.

Comments Due: 5 p.m. ET 7/8/14.

Docket Numbers: ER14-1997-001.

Applicants: PJM Interconnection, L.L.C.

Description: Errata to Notice of Cancellation of Original SA No. 2857; Queue W1-120 to be effective 2/14/2012.

Filed Date: 6/16/14.

Accession Number: 20140616-5254.

Comments Due: 5 p.m. ET 7/7/14.

Docket Numbers: ER14-2003-000.

Applicants: PJM Interconnection, L.L.C.

Description: Supplemental Filing to Ministerial Clean-up in ER14-2003-000 to be effective N/A.

Filed Date: 6/16/14.

Accession Number: 20140616-5255.

Comments Due: 5 p.m. ET 7/7/14.

Docket Numbers: ER14-2187-001.

Applicants: Grand Ridge Energy Storage LLC.

Description: Supplement to Market-Based Rate Application to be effective8/16/2014.

Filed Date: 6/16/14.

Accession Number: 20140616-5181.

Comments Due: 5 p.m. ET 7/7/14.

Docket Numbers: ER14-2195-000.

Applicants: Duke Energy Progress, Inc.

Description: Cancellation of Rate Schedule No. 192 to be effective 6/13/2014.

Filed Date: 6/17/14.

Accession Number: 20140617-5060.

Comments Due: 5 p.m. ET 7/8/14.

Docket Numbers: ER14-2196-000.

Applicants: Public Service Company of New Mexico.

Description: Gallup Electric Service Agreement Cancellation to be effective 6/29/2014.

Filed Date: 6/17/14.

Accession Number: 20140617-5078.

Comments Due: 5 p.m. ET 7/8/14.

Docket Numbers: ER14-2197-000.

Applicants: Public Service Company of New Mexico.

Description: Notice of Cancellation of NITSA and NOA between PNM Merchant & PNM Transmission to be effective 6/29/2014.

Filed Date: 6/17/14.

Accession Number: 20140617-5079.

Comments Due: 5 p.m. ET 7/8/14.

Docket Numbers: ER14-2198-000.

Applicants: Public Service Company of New Mexico.

Description: NITSA and NOA between PNM and City of Gallup to be effective 6/30/2014.

Filed Date: 6/17/14.

Accession Number: 20140617-5080.

Comments Due: 5 p.m. ET 7/8/14.

Docket Numbers: ER14-2199-000.

Applicants: Alabama Power Company.

Description: SWE (SMEPA) NITSA Rollover Filing to be effective 6/1/2014.

Filed Date: 6/17/14.

Accession Number: 20140617-5114.

Comments Due: 5 p.m. ET 7/8/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2014.
Nathaniel J. Davis, Sr.,
Deputy Secretary.

[FR Doc. 2014-14696 Filed 6-23-14; 8:45 am]

BILLING CODE 6717-01-P